DEPARTMENT OF ENERGY

Federal Energy Regulatory Commission

[Docket No. EG04-10-000, et al.]

Eurus Combine Hille I, LLC, et al.; Electric Rate and Corporate Filings

November 6, 2003.

The following filings have been made with the Commission. The filings are listed in ascending order within each docket classification.

1. Eurus Combine Hille I, LLC

[Docket No. EG04-10-000]

Take notice that on October 31, 2003, Eurus Combine Hille I LLC (Applicant) filed with the Federal Energy Regulatory Commission an Application for Determination of Exempt Wholesale Generator Status pursuant to Part 365 of the Commission's regulations. Applicant states that it intends to construct, own and operate a wind generating station with a nominal aggregate generating capacity of up to 41 MW in the County of Umatilla, Oregon.

Comment Date: November 21, 2003.

2. Tucson Electric Power Company

[Docket No. ER98-1150-002]

Take notice that on October 31, 2003, Tucson Electric Power Company tendered for filing a triennial market power analysis in compliance with the Commission's Order in Docket No. ER98-1150-000, Tucson Electric Power Co., 82 FERC ¶ 61,141 (1998).

Comment Date: November 21, 2003.

3. New England Power Pool ISO New England Inc.

[Docket No. ER02-2330-019]

Take notice that on October 30, 2003, New England Power Pool, ISO New England Inc. and the New England Conference of Public Utilities Commissioners (collectively, the Joint Movants), tendered for filing a Joint Request With Respect to Nodal Pricing in New England.

The Joint Movants state that copies of the filing have been served on each person designated on the official service list compiled by the Secretary in this proceeding.

Comment Date: November 20, 2003.

4. Superior Electric Power Corporation

[Docket No. ER03-1289-001]

Take notice that on October 31, 2003, Superior Electric Power Corporation (SEPC) tendered for filing its revised tariff sheet canceling FERC Electric Tariff, Original Volume No. 1, Original Sheet No. 1, supplementing its filing of September 4, 2003 in Docket No. ER03-1289-000.

Comment Date: November 21, 2003.

5. Utility Management Corporation

[Docket No. ER04-30-001]

Take notice that on October 29, 2003, Utility Management Corporation (Utility Management) tendered for filing an amendment to the Notice of Cancellation of its Market-Based Rate Schedule, filed in Docket No. ER04-30-000.

Comment Date: November 19, 2003.

6. Pacific Gas and Electric Company

[Docket No. ER04-109-000]

Take notice that on October 31, 2003, Pacific Gas and Electric Company (PG&E tendered for filing proposed changes to rates and terms in its Transmission Owner (TO) Tariff, along with cost support for PG&E specific rates associated with the Tariff. PG&E requests that its filing be made effective as of January 1, 2004. PG&E states that this filing proposes changes to its transmission access charges, which are calculated in accordance with the rate methodology set forth in PG&E's TO Tariff.

PG&E states that copies of this filing have been served upon the California Public Utilities Commission and the California Independent System Operator Corporation.

Comment Date: November 21, 2003.

7. New England Power Pool

[Docket No. ER04-110-000]

Take notice that on October 31, 2003, the New England Power Pool (NEPOOL) Participants tendered for filing proposed changes to Restated NEPOOL Agreement, NEPOOL Open Access Transmission Tariff and NEPOOL Market Rule 1 (the Ninety-Ninth Agreement). NEPOOL states that the changes proposed by the Ninety-Ninth Agreement are intended to address various issues raised by the potential participation by End Users in the NEPOOL Market. NEPOOL requests that the Ninety-Ninth Agreement become effective upon the later of (1) January 1, 2004 or (2) the date that a ruling by the Commission that end user participation in the NEPOOL Market will not jeopardize the exempt wholesale generator status of any Participant becomes final and non-appealable.

The NEPOOL Participants Committee states that copies of these materials were sent to the NEPOOL Participants, Non-Participant Transmission Customers and the New England state governors and regulatory commissions.

Comment Date: November 21, 2003.

8. California Power Exchange Corporation

[Docket No. ER04-111-000]

Take notice that on October 31, 2003, the California Power Exchange Corporation (CalPX) tendered for filing its Rate Schedule for the period January 1, 2004 through June 30, 2004. CalPX states that it files this Rate Schedule pursuant to the Commission's Orders of August 8, 2002 (100 FERC ¶ 61,178) in Docket No. ER02-2234-000, and April 1, 2003 (103 FERC ¶ 61,001) issued in Docket Nos. EC03-20-000 and 001, which require CalPX to make a new rate filing every six months to recover current expenses. CalPX states that the Rate Schedule covers expenses projected for the period January 1, 2004 through June 30, 2004, and CalPX requests an effective date of January 1, 2004.

CalPX states that it has served copies of the filing on its participants, on the California ISO, and on the California Public Utilities Commission.

Comment Date: November 21, 2003.

9. KeySpan Generation LLC

[Docket No. ER04-112-000]

Take notice that on October 31, 2003, KeySpan Generation LLC (KeySpan Generation), submitted a rate filing for changes in rate schedules, pursuant to 18 CFR 35.13, between KeySpan Generation and the Long Island Power Authority (LIPA) under the Power Supply Agreement (PSA). KeySpan Generation states that the PSA between KeySpan Generation and LIPA is for a term of fifteen years and that KeySpan Generation and LIPA are entering the seventh Contract Year, commencing January 1, 2004. KeySpan Generation states, as required by Appendix A of the PSA, this filing supports the calculation of the revenue requirement for services that KeySpan Generation will provide to LIPA for the seventh Contract Year. In this filing, KeySpan Generation states it is proposing rates, terms and conditions for its sale and delivery of electric capacity, energy and ancillary services to LIPA under the PSA, which will be in effect in the seventh through twelfth Contract Years. KeySpan Generation requests an effective date of January 1, 2004.

KeySpan states that copies of the filing were served upon LIPA and the New York State Public Service Commission.

Comment Date: November 21, 2003.

10. New England Power Pool

[Docket No. ER04-113-000]

Take notice that on October 31, 2003, the New England Power Pool (NEPOOL) Participants Committee filed for acceptance materials to permit NEPOOL to expand its membership to include D. E. Shaw Plasma Power, L.L.C. (Plasma Power), and to terminate the membership of Northeast Generation Services (NGS). The Participants Committee requests a November 1, 2003 effective date for the termination of NGS and a January 1, 2004 effective date for the commencement of participation in NEPOOL by Plasma Power.

The Participants Committee states that copies of these materials were sent to the New England state governors and regulatory commissions and the Participants in NEPOOL.

Comment Date: November 21, 2003.

11. ISO New England Inc.

[Docket No. ER04-114-000]

Take notice that on October 31, 2003, ISO New England Inc. (the ISO) tendered for filing under Section 205 of the Federal Power Act changes to its Capital Funding tariff. The ISO requests that the changes to the Capital Funding Tariff be allowed to go into effect on January 1, 2004.

ISO states that copies of the transmittal letter were served upon each non-Participant entity that is a customer under the NEPOOL Open Access Transmission Tariff, as well as on the governors and utility regulatory agencies of the six New England States, and the New England Conference of Public Utility Commissioners. ISO further states that NEPOOL Participants were also served with the entire filing electronically and the entire filing is posted on the ISO's Web site (http://www.iso-ne.com).

Comment Date: November 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00251 Filed 11-14-03; 8:45 am]

BILLING CODE 6717-01-P